DEPARTMENT OF ENERGY

Federal Energy Regulatory Commission

Combined Notice of Filings #1

Take notice that the Commission received the following electric corporate filings:

Docket Numbers: EC15-52-000.

Applicants: Badger Creek Limited, Double C Generation Limited Partnership, High Sierra Limited, Kern Front Limited.

Description: Application for Authorization for Disposition of Jurisdictional Facilities and Request for Expedited Action of Badger Creek Limited, et al.

Filed Date: 12/12/14.

Accession Number: 20141212-5186.

Comments Due: 5 p.m. ET 1/2/15.

Take notice that the Commission received the following exempt wholesale generator filings:

Docket Numbers: EG15-27-000.

Applicants: KMC Thermo, LLC.

Description: Self-Certification of EWG Status for KMC Thermo, LLC.

Filed Date: 12/12/14.

Accession Number: 20141212-5189.

Comments Due: 5 p.m. ET 1/2/15.

Take notice that the Commission received the following electric rate filings:

Docket Numbers: ER13-1139-008; ER14-2630-001.

Applicants: Imperial Valley Solar 1, LLC, Regulus Solar, LLC.

Description: Notification of Non-Material Change in Status of Imperial Valley Solar 1, LLC and Regulus Solar, LLC.

Filed Date: 12/15/14.

Accession Number: 20141215-5202.

Comments Due: 5 p.m. ET 1/5/15.

Docket Numbers: ER14-2154-001.

Applicants: Midcontinent Independent System Operator, Inc.

Description: Compliance filing per 35: 2014-12-15_RPU Compliance Filing to be effective N/A.

Filed Date: 12/15/14.

Accession Number: 20141215-5139.

Comments Due: 5 p.m. ET 1/5/15.

Docket Numbers: ER15-567-001.

Applicants: NiGen, LLC.

Description: Supplement to December 10, 2014 NiGen, LLC tariff filing.

Filed Date: 12/12/14.

Accession Number: 20141212-5173.

Comments Due: 5 p.m. ET 12/26/14.

Docket Numbers: ER15-624-000.

Applicants: Public Service Company of New Mexico.

Description: § 205(d) rate filing per 35.13(a)(2)(iii): Modifications to San Juan Project Participation Agreement to be effective 7/1/2014.

Filed Date: 12/15/14.

Accession Number: 20141215-5032.

Comments Due: 5 p.m. ET 1/5/15.

Docket Numbers: ER15-625-000.

Applicants: Public Service Company of New Mexico.

Description: Tariff Withdrawal per 35.15: Notice of Termination of Rate Schedule Designation of Rate Schedule 171 to be effective 7/1/2014.

Filed Date: 12/15/14.

Accession Number: 20141215-5033.

Comments Due: 5 p.m. ET 1/5/15.

Docket Numbers: ER15-626-000.

Applicants: North Energy Power, LLC.

Description: Initial rate filing per 35.12 Baseline new to be effective 12/16/2014.

Filed Date: 12/15/14.

Accession Number: 20141215-5067.

Comments Due: 5 p.m. ET 1/5/15.

Docket Numbers: ER15-627-000.

Applicants: Golden Spread Electric Cooperative, Inc.

Description: § 205(d) rate filing per 35.13(a)(2)(iii): Pleasant Hill SGIA Third Amendment to be effective 11/30/2014.

Filed Date: 12/15/14.

Accession Number: 20141215-5111.

Comments Due: 5 p.m. ET 1/5/15.

Docket Numbers: ER15-628-000.

Applicants: Southern California Edison Company.

Description: § 205(d) rate filing per 35.13(a)(2)(iii): GIA and Distribution Service Agmt with Wind Stream Operations, LLC to be effective 12/9/2014.

Filed Date: 12/15/14.

Accession Number: 20141215-5134.

Comments Due: 5 p.m. ET 1/5/15.

Docket Numbers: ER15-629-000.

Applicants: PJM Interconnection, L.L.C.

Description: § 205(d) rate filing per 35.13(a)(2)(iii): Original Service Agreement No. 4055; Queue No. Z2-082 to be effective 11/13/2014.

Filed Date: 12/15/14.

Accession Number: 20141215-5138.

Comments Due: 5 p.m. ET 1/5/15.

Docket Numbers: ER15-630-000.

Applicants: Southwest Power Pool, Inc.

Description: § 205(d) rate filing per 35.13(a)(2)(iii): Revisions to Attachment AE (MPL) Section 4.1 to be effective 2/13/2015.

Filed Date: 12/15/14.

Accession Number: 20141215-5169.

Comments Due: 5 p.m. ET 1/5/15.

Docket Numbers: ER15-631-000.

Applicants: Crawfordsville Energy, LLC.

Description: Initial rate filing per 35.12 Market Based Rate Tariff to be effective 2/15/2015.

Filed Date: 12/15/14.

Accession Number: 20141215-5214.

Comments Due: 5 p.m. ET 1/5/15.

Docket Numbers: ER15-632-000.

Applicants: CID Solar, LLC.

Description: Baseline eTariff Filing per 35.1: Baseline—CID Solar, LLC MBR Tariff to be effective 12/16/2014.

Filed Date: 12/15/14.

Accession Number: 20141215-5218.

Comments Due: 5 p.m. ET 1/5/15.

Take notice that the Commission received the following electric securities filings:

Docket Numbers: ES13-49-001.

Applicants: Entergy Louisiana, LLC, Entergy Texas, Inc.

Description: Supplement to July 30, 2014 Application to amend existing FPA Section 204 authority of Entergy Texas, Inc.

Filed Date: 12/12/14.

Accession Number: 20141212-5188.

Comments Due: 5 p.m. ET 12/22/14.

Docket Numbers: ES15-2-000.

Applicants: National Grid USA, Nantucket Electric Company, The Narragansett Electric Company, New England Power Company, Niagara Mohawk Power Corporation, New England Hydro-Transmission Electric, National Grid Generation LLC.

Description: Amendment to October 31, 2014 Application of National Grid USA, on behalf of Nantucket Electric Company, et al., for Authority to Issue Securities.

Filed Date: 12/12/14.

Accession Number: 20141212-5185.

Comments Due: 5 p.m. ET 12/22/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 15, 2014.
Nathaniel J. Davis, Sr.,
Deputy Secretary.

[FR Doc. 2014-30205 Filed 12-23-14; 8:45 am]

BILLING CODE 6717-01-P